DEPARTMENT OF THE TREASURY

Internal Revenue Service

Open Meeting of the Taxpayer Advocacy Panel Taxpayer Communications Project Committee

AGENCY: Internal Revenue Service (IRS), Treasury.

ACTION: Notice of meeting.

SUMMARY: An open meeting of the Taxpayer Advocacy Panel Taxpayer Communications Project Committee will be conducted. The Taxpayer Advocacy Panel is soliciting public comments, ideas, and suggestions on improving customer service at the Internal Revenue Service.

DATES: The meeting will be held, Thursday, December 6, 2012 and Friday, December 7, 2012.

FOR FURTHER INFORMATION CONTACT: Ellen Smiley or Patti Robb at 1-888-912-1227 or 414-231-2360.

SUPPLEMENTARY INFORMATION: Notice is hereby given pursuant to Section 10(a)(2) of the Federal Advisory Committee Act, 5 U.S.C. App. (1988) that an open meeting of the Taxpayer Advocacy Panel Taxpayer Communications Project Committee will be held Thursday, December 6, 2012, from 8:00 a.m. to 4:30 p.m. Pacific Time, and Friday, December 7, 2012, from 8:00 a.m. to 12:00 Pacific Time, at Federal Building, 1301 Clay Street, Suite 700S, Oakland, CA 94612. The public is invited to make oral comments or submit written statements for consideration. Due to limited time and structure of meeting, notification of intent to participate must be made with Ms. Smiley or Ms. Robb. For more information please contact Ms. Smiley or Ms. Robb at 1-888-912-1227 or 414-231-2360, or write TAP Office Stop 1006MIL, 211 West Wisconsin Avenue, Milwaukee, WI 53203-2221, or post comments to the Web site: http://www.improveirs.org.

The agenda will include various IRS issues.

Dated: November 6, 2012.
Otis Simpson,
Acting Director, Taxpayer Advocacy Panel.

[FR Doc. 2012-27480 Filed 11-9-12; 8:45 am]

BILLING CODE 4830-01-P